DEPARTMENT OF COMMERCE

National Oceanic and Atmospheric Administration

Agency Information Collection Activities; Submission to the Office of Management and Budget (OMB) for Review and Approval; Comment Request; Marine Recreational Fishing Expenditure Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 30, 2024 during a 60-day comment period. This notice allows for an additional 30 days for public comments.

Agency: National Oceanic and Atmospheric Administration, Commerce.

Title: Marine Recreational Fishing Expenditure Survey.

OMB Control Number: 0648-0693.

Form Number(s): None.

Type of Request: Regular submission [revision and extension of a current information collection].

Number of Respondents: 28,106.

Average Hours per Response: Trip Expenditure survey 7 minutes, Durable Good Surveys 15 minutes, HI Charter Trip Expenditures 5 minutes, and HMS Trip Expenditure 6.5 minutes.

Total Annual Burden Hours: 3,160 hours.

Needs and Uses: This is a request for revision and extension of an approved information collection. As specified in the Magnuson-Stevenson Fishery Conservation and Management Act of 1996 (and reauthorized in 2007), NMFS is required to enumerate the economic impacts of the policies it implements on fishing participants and coastal communities. The objective of the survey is to collect information on marine (saltwater) recreational fishing trip expenditures and durable good expenditures made by marine recreational anglers. The survey has two parts which may be conducted either jointly during the same calendar year or in separate years. The trip expenditure portion will ask anglers about the expenses incurred on their most recent marine recreational fishing trip. The durable goods portion will ask anglers about their purchases of durable goods such as fishing gear, boats, vehicles, and second homes over a 12-month period. The expenditure data collected in this regular survey is widely used by both federal, state, and non-governmental organizations for research and analysis regarding the economic importance and contributions of marine recreational fishing to each coastal state and nationwide. The program office would like to make minor changes to a few of the questions on the survey. These changes will not affect the integrity or overall purpose of said survey. The NMFS Office of Science and Technology conducts the survey and publishes the results in both technical reports and the annual `Fisheries Economics of the U.S.' report series.

Affected Public: Individuals.

Frequency: Annually.

Respondent's Obligation: Voluntary.

Legal Authority: Magnuson-Stevens Fishery Conservation and Management Act as reauthorized in 2007 (16 U.S.C. 1801 et. seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0693.

Sheleen Dumas,
Departmental PRA Clearance Officer, Office of the Under Secretary for Economic Affairs, Commerce Department.

[FR Doc. 2024-25865 Filed 11-6-24; 8:45 am]

BILLING CODE 3510-22-P